DEPARTMENT OF COMMERCE

National Oceanic and Atmospheric Administration

[RTID 0648-XE929]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 156th Scientific and Statistical Committee (SSC), Executive and Budget Standing Committee (SC), Fishery Data Collection and Research Committee (FDCRC), Pelagic and International SC, Military Expansion SC, and its 203rd Council meeting to take actions on fishery management issues in the Western Pacific Region.

DATES: The meetings will be held between June 4 and June 11, 2025. For specific times and agendas, see SUPPLEMENTARY INFORMATION. Written public comments on final action items at the 203rd Council meeting should be received at the Council office by 5 p.m. HST, Thursday, June 5, 2025, see ADDRESSES.

ADDRESSES: The 156th SSC, Executive and Budget SC, FDCRC, Pelagic and International SC, Military Expansion SC, and 203rd Council meetings will be held as a hybrid meeting for members and the public, with a remote participation option available via Webex. In-person attendance for the 156th SSC, FDCRC, and Executive and Budget SC meetings will be hosted at the Council office, 1164 Bishop Street, Suite 1400, Honolulu, HI 96813. In-person attendance for the Pelagic and International SC, Military Expansion SC, and 203rd Council meetings will be hosted at the Ala Moana Hotel, Hibiscus Ballroom, 410 Atkinson Drive, Honolulu, HI 96814.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

Background documents for the 203rd Council meeting will be available at www.wpcouncil.org. Written public comments on final action items at the 203rd Council meeting should be received at the Council office by 5 p.m. HST, Thursday, June 5, 2025, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website.

FOR FURTHER INFORMATION CONTACT: Kitty M. Simonds, Executive Director, Western Pacific Fishery Management Council; phone: (808) 522-8220.

SUPPLEMENTARY INFORMATION: The 156th SSC meeting will be held between 9 a.m. and 5 p.m. Hawaii Standard Time (HST) on June 4-5, 2025, and between 9 a.m. and 12 p.m. HST on June 6, 2025. The Executive and Budget SC meeting will be held between 2:30 p.m. and 5:30 p.m. HST on June 6, 2025. The FDCRC meeting will be held between 12 p.m. and 2 p.m. HST on June 6, 2025. The Pelagic and International SC will be held between 8:30 a.m. and 10:30 a.m. HST on June 9, 2025. The Military Expansion SC will be held between 10:30 a.m. and 12 p.m. HST on June 9, 2025. The 203rd Council meeting will be held between 1 p.m. and 5 p.m. HST on June 9, 2025, between 8:30 a.m. and 5 p.m. on June 10, 2025, and between 9 a.m. and 5 p.m. on June 11, 2025. Public Comment on Non-Agenda Items will be held between 4:30 p.m. and 5 p.m. HST on June 9, 2025. The Fishers Forum will be held between 6 p.m. and 8:30 p.m. HST on June 9, 2025.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

This meeting will be recorded (audio only) for the purposes of generating the minutes of the meeting. As public comments will be made publicly available, participants and public commenters are urged not to provide personally identifiable information (PII) at this meeting. Participation in the meeting by web conference, or by telephone, constitutes consent to the audio recording.

Agenda for the 156th SSC Meeting

Wednesday, June 4, 2025, 9 a.m. to 5 p.m. HST

1. Introductions

2. Approval of Draft Agenda and Assignment of Rapporteurs

3. Status of the 155th SSC Meeting Recommendations

4. Pacific Islands Fisheries Science Center (PIFSC) Director Report

5. Program Planning and Research

A. Status of Executive Orders (E.O.), Presidential Proclamations and Legislative Issues of SSC Interest

B. 2024 Annual Stock Assessment and Fishery Evaluation (SAFE) Report and Recommendations

B.1. Archipelagic and Pelagic SAFE Report Highlights

B.2. Archipelagic Plan Team Report Highlights

B.3. American Samoa Annual Longline (LL) Logbook Reports

B.4. Hawaii Annual LL Logbook Reports

B.5. Update of the Plan Team Working Group on Bigeye Tuna Catch Per Unit Effort (CPUE)

B.6. Pelagic Plan Team Report Highlights

C. SSC Special Projects Working Group (WG) Reports

C.1. Integration of biological, economic, social, and cultural considerations (WG presentation)

C.2. Integration of climate information into decision making (WG update)

C.3. Bottomfish management unit species (BMUS) multispecies complex (WG update)

C.4. Special Projects List Updates

D. Final 2024 National SSC Workshop Report and Next Workshop Topics

E. Public Comment

F. SSC Discussion and Recommendations

6. Island Fisheries

A. Commonwealth of the Northern Mariana Islands (CNMI) Bottomfish Stock Assessment

A.1. CNMI Bottomfish Update Stock Assessment

A.2. Chair's Report on CNMI Bottomfish Update Stock Assessment Western Pacific Stock Assessment Review (WPSAR)

B. Public Comment

C. SSC Discussion and Recommendations

Thursday, June 5, 2025, 9 a.m. to 5 p.m. HST

7. Pelagic & International Fisheries

A. Implementation of Electronic Monitoring (EM) in Hawaii and American Samoa LL Fisheries (Action Item)

A.1. Summary of NMFS Technical Memos on EM Operations

A.2. Council Action and Decisions

B. Status of Implementing Hawaii and American Samoa LL Fisheries Crew Training Requirement

C. The Pacific Community (SPC) Stock Assessment Workshop Outcomes

D. Development of Harvest Strategy for South Pacific Albacore

E. Public Comment

F. SSC Discussion and Recommendations

8. Protected Species

A. Incorporation of Foreign Fleet Impacts Analysis into Pelagic False Killer Whale Stock Mortality and Serious Injury and Potential Biological Removal Estimations

B. Overview of Endangered Species Act and Marine Mammal Protection Act Processes and Status of Ongoing Actions

C. Public Comment

D. SSC Discussion and Recommendations

Friday, June 6, 2025, 9 a.m. to 12 p.m. HST

9. Other Business

A. SSC Meeting Schedule and Potential Working Groups

10. Summary of SSC Recommendations to the Council

Agenda for the FDCRC Meeting

Friday, June 6, 2025, 12 p.m.-2 p.m.

1. Introductions and Approval of Agenda

2. Review of Past Activities

3. Current State of Data Collection

A. American Samoa

B. Guam

C. Hawaii

D. CNMI

4. Role of Data Collection Programs

A. Annual Stock Assessment and Fishery Evaluation Reports

B. Stock Assessments

5. Barriers to Data Collection and Implementation Issues

6. Funding Impacts

A. Western Pacific Fishery Information Network

B. Interjurisdictional Fisheries Act

7. Plan Team Recommendations

8. Other Business

9. Discussion and Recommendations

Agenda for the Executive and Budget SC Meeting

Friday, June 6, 2025, 2:30 p.m. to 5:30 p.m. HST

1. Introduction and Approval of Agenda

2. Financial Reports

3. Administrative Reports

4. Council Family Changes

5. Council Coordination Committee Report

6. Meetings and Workshops

7. Public Comment

8. Discussion and Recommendations

Agenda for the Pelagic and International SC Meeting

Monday, June 9, 2025, 8:30 a.m. to 10:30 a.m. HST

1. Introductions and Approval of Agenda

2. Implementation of EM in Hawaii and American Samoa LL Fisheries (Action Item)

3. Hawaii and American Samoa LL Fisheries Crew Training Requirement (Action Item)

4. Other Business

5. Public Comment

6. Discussion and Recommendations

Agenda for the Military Expansion SC Meeting

Monday, June 9, 2025, 10:30 a.m. to 12 p.m. HST

1. Introductions and Approval of Agenda

2. Standing Committee Objectives

3. Report on Military Expansion Activities

4. Identifying Fishery Issues, Needs and Solutions

5. Other Business

6. Public Comment

7. Discussion and Recommendations

Agenda for the 203rd Council Meeting

Monday, June 9, 2025, 1 p.m. to 5 p.m. HST

1. Welcome and Introductions

2. Approval of the 203rd Council Meeting Agenda

3. Approval of the 202nd Council Meeting Minutes

4. Executive Director's Report

5. Agency Reports

A. National Marine Fisheries Service

A.1. Pacific Islands Regional Office

A.2. PIFSC

B. NOAA Office of General Counsel Pacific Islands Section

C. US Coast Guard

D. Enforcement

D.1. NOAA Office of Law Enforcement

D.2. NOAA Office of General Counsel Enforcement Section

E. US State Department

F. US Fish and Wildlife Service/Department of Interior

G. Public Comment

H. Council Discussion and Action

Monday, June 9, 2025, 4:30 p.m. to 5 p.m. HST

Public Comment on Non-Agenda Items

Monday, June 9, 2025, 6 p.m. to 8:30 p.m. HST

Fishers Forum

Tuesday, June 10, 2025, 8:30 a.m. to 5 p.m. HST

6. Pelagics and International

A. 2024 Pelagic Annual SAFE Report

B. Hawaii and American Samoa LL Fisheries Crew Training Requirement (Final Action)

C. Implementation of EM in Hawaii and American Samoa LL Fisheries (Final Action)

D. Management Procedure for South Pacific Albacore

E. Advisory Group Report and Recommendations

E.1. Advisory Panels (AP)

E.2. Plan Teams

E.3. Social Science Planning Committee (SSPC)

E.4. Fishing Industry Advisory Committee (FIAC)

E.5. SSC

E.6. Pelagic & International Standing Committee

F. Public Comment

G. Council Discussion and Action

7. Hawaii Archipelago and Pacific Remote Island Area (PRIA)

A. Moku Pepa

B. Division of Aquatic Resources Report

C. 2024 Hawaii and PRIA Annual SAFE Report

D. Annual Catch Limit (ACL) Specifications for Main Hawaiian Islands Uku for 2026 to 2029 (Final Action)

E. Fishing Regulations for the Papahānaumokuākea National Marine Sanctuary Final Rule Update

F. Advisory Group Report and Recommendations

F.1. AP

F.2. Plan Teams

F.3. SSPC

F.4. FIAC

F.5. SSC

G. Public Comment

H. Council Discussion and Action

8. Program Planning and Research

A. Legislative Report

B. E.O. and Presidential Proclamations

B.1. Proclamation 10918 Unleashing American Commercial Fishing in the Pacific

B.2. E.O. 14276 Restoring American Seafood Competitiveness, including Review of Marine National Monuments (Marianas Trench, Rose Atoll and Papahānaumokuākea)

C. Aquaculture Fishery Ecosystem Plan Amendment Update

D. Western Pacific Marine Resource Education Program

E. Report on Inflation Reduction Act Program Projects

E.1. Scenario Planning

E.2. Community engagement/capacity building

F. Council Education and Outreach Report

G. Advisory Group Report and Recommendations

G.1. AP

G.2. Plan Teams

G.3. SSPC

G.4. FIAC

G.5. FDCRC

G.6. SSC

G.7. Military Expansion Standing Committee

H. Public Comment

I. Council Discussion and Action

Wednesday, June 11, 2025, 9 a.m. to 5 p.m. HST

9. Mariana Archipelago

A. Guam

A.1. Isla Informe

A.2. Department of Agriculture/Division of Aquatic and Wildlife Resources Report

A.3. 2024 Guam SAFE Report

B. CNMI

B.1. Arongol Falú

B.2. Department of Lands and Natural Resources/Division of Fish and Wildlife Report

B.3. 2024 CNMI Annual SAFE Report

B.4. 2025 CNMI BMUS Stock Assessment/WPSAR Report

C. Advisory Group Report and Recommendations

C.1. Marianas AP

C.2. Plan Teams

C.3. FIAC

C.4. SSC

C.5. Military Expansion Standing Committee

D. Public Comment

E. Council Discussion and Action

10. American Samoa Archipelago

A. Motu Lipoti

B. Department of Marine and Wildlife Resources Report

C. 2024 American Samoa Annual SAFE Report

D. Advisory Group Report and Recommendations

D.1. American Samoa AP

D.2. Plan Teams

D.3. FIAC

D.4. SSC

E. Public Comment

F. Council Discussion and Action

11. Administrative Matters

A. Financial Reports

B. Administrative Reports

C. Council Family Changes

D. Report on Council Coordination Committee

E. Meetings and Workshops

F. Executive and Budget Standing Committee Report

G. Public Comment

H. Council Discussion and Action

Non-emergency issues not contained in this agenda may come before the Council for discussion during its 203rd meeting. However, Council final decisions will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 14, 2025.
Rey Israel Marquez,
Acting Deputy Director, Office of Sustainable Fisheries, National Marine Fisheries Service.

[FR Doc. 2025-08870 Filed 5-16-25; 8:45 am]

BILLING CODE 3510-22-P